DEPARTMENT OF ENERGY

Federal Energy Regulatory Commission

[Project No. 14775-001]

Marine Renewable Energy Collaborative of New England; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 14775-001.

c. Date Filed: November 6, 2018.

d. Submitted By: Marine Renewable Energy Collaborative of New England (MRECo).

e. Name of Project: Bourne Tidal Test Site.

f. Location: On the Cape Cod Canal near the Town of Bourne, in Barnstable County, MA.

g. Filed Pursuant to: 18 CFR 5.3 of the Commission's regulations.

h. Applicant Contact: John Miller, Director, Marine Renewable Energy Collaborative of New England, P.O. Box 479, Marion, MA 02738; (508) 728-5825.

i. FERC Contact: John Ramer at (202) 502-8969 or email at john.ramer@ferc.gov.

j. MRECo has filed the following pre-filing materials with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act.

k. With this notice, we are soliciting comments on the pre-filing materials listed in paragraph j above, including the draft license application and monitoring plans. All comments should also be sent to the address above in paragraph h. In addition, all comments may be filed electronically via the internet. See 18 CFR 385.2001(a)(1)(iii) and the instructions on the Commission's website http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE, Washington, DC 20426. Any individual or entity interested in submitting comments on the pre-filing materials must do so by December 20, 2018.

l. With this notice, we are approving MRECo's request to be designated as the non-federal representative for section 7 of the ESA and its request to initiate consultation under section 106 of the National Historic Preservation Act; and recommending that it begin informal consultation with: (a) The U.S. Fish and Wildlife Service and the National Marine Fisheries Service as required by section 7 of ESA; and (b) the Massachusetts State Historic Preservation Officer, as required by section 106, National Historical Preservation Act, and the implementing regulations of the Advisory Council on Historic Preservation at 36 CFR 800.2.

m. With this notice, we are also asking federal, state, local, and tribal agencies with jurisdiction and/or expertise with respect to environmental issues to cooperate with us in the preparation of the environmental document. Agencies who would like to request cooperating status should follow the instructions for filing comments described in paragraph “k” above.

n. This notice does not constitute the Commission's approval of MRECo's request to use the Pilot Project Licensing Procedures. Upon its review of the project's overall characteristics relative to the pilot project criteria, the draft license application contents, and any comments filed, the Commission will determine whether there is adequate information to conclude the pre-filing process.

o. The proposed Bourne Tidal Test Site Project would consist of: (1) An existing turbine support platform mounted on two primary pilings that are spaced approximately 23 feet apart and embedded to a depth of 50 feet below the seabed, and that rise approximately 45-feet above the seabed; (2) a proposed horizontal, axial, open-bladed turbine having a 3-meter-diameter sweep area and an installed capacity of 100 kilowatts (other in-stream turbine-generators would also be tested at the site); (3) two proposed 500-foot-long, 13.2kilovolt transmission lines connecting the project turbine to a battery storage cabinet and to an interconnection with the regional grid; and (4) appurtenant facilities. The hydrokinetic project would have an estimated average annual generation of 100-megawatt hours.

p. A copy of the draft license application and all pre-filing materials are available for review at the Commission in the Public Reference Room or may be viewed on the Commission's website (http://www.ferc.gov), using the “eLibrary” link. Enter the docket number (P-14775), excluding the last three digits in the docket number field to access the document. For assistance, contact FERC Online Support at FERCONlineSupport@ferc.gov or toll free at 1-866-208-3676, or for TTY, (202) 502-8659.

q. Pre-filing process schedule. The pre-filing process will be conducted pursuant to the following tentative schedule. Revisions to the schedule below may be made based on staff's review of the draft application and any comments received.

Milestone | Date
Comments on pre-filing materials due | December 20, 2018.
Issuance of meeting notice (if needed) | January 5, 2019.
Public meeting/technical conference (if needed) | February 5, 2019.

r. Register online at http://www.ferc.gov/docs-filing/esubscription.asp to be notified via email of new filing and issuances related to this or other pending projects. For assistance, contact FERC Online Support.

Dated: November 13, 2018.
Kimberly D. Bose,
Secretary.

[FR Doc. 2018-25175 Filed 11-16-18; 8:45 am]

BILLING CODE 6717-01-P